DEPARTMENT OF DEFENSE

Office of the Secretary

Notice of Availability Missile Defense Agency Ground-Based Midcourse Defense Validation Of Operational Concept Environmental Assessment

AGENCY: Missile Defense Agency

ACTION: Notice of availability

SUMMARY: The Missile Defense Agency (MDA) (formerly the Ballistic Missile Defense Organization) announces the availability of the Ground-Based Midcourse Defense (GMD) Validation of Operational Concept (VOC) Environmental Assessment (EA). The EA assesses the potential impacts of construction and test activities at GMD VOC test sites. The proposed action includes construction and operational testing of six ground-based interceptor (GBI) silos and support facilities, In-Flight Interceptor Communication System Data Terminals (IDTs), and Defense Satellite Communication System (DSCS) earth terminals in central Alaska; an IDT and DSCS earth terminal at Eareckson Air Station (AS), Alaska; construction of a missile transfer facility at Eielson Air Force Base (AFB), Alaska; use of the existing COBRA DANE Radar, with upgraded hardware and software and interior modifications, at Eareckson AS; interior modifications and hardware and software upgrades to the Early Warning Radar at Beale AFB, California; and Battle Management, Command and Control [BMC2] nodes at one or more of Peterson AFB, Cheyenne Mountain Complex and Shriever AFB in Colorado, Eareckson AS, Alaska, Beale AFB California, and contractor facilities in Alabama and California.

Fort Greely, Alaska was considered as the preferred alternative for the six GBI silos and support facilities and associated BMC3 including one IDT, one DSCS earth terminal, a BMC2 execution node and installation of terrestrial fiber optic cable. Clear Air Force Station, Alaska is being considered as an alternative location to Fort Greely, Alaska as the GBI silo and support facilities location.

The no-action alternative was also considered. Under the no-action alternative, MDA would not proceed with construction and testing to support validation of the GMD operational concept through ground-based testing. Selection of the no-action alternative would not allow the operationally realistic testing needed to further develop the GMD element of the Midcourse Defense Segment.

Comments: Public comments on the EA must be received by April 13, 2002. Written comments or a request for a copy of the EA should be directed to: U.S. Army Space and Missile Defense Command, ATTN: Mr. David Hasley, SMDC-EN-V, P.O. Box 1500, Huntsville, AL 35807-3801.

As the proposed action includes multiple locations, some of which are under the administrative control of the United States Army and some of which are under the administrative control of the United States Air Force, the MDA has used both Army Regulation 200-2 and Air Force Instruction 32-7061 in preparing the EA and Finding of No Significant Impact (FNSI). An unsigned FNSI will be distributed with the final EA. The FNSI will be signed after a 30-day public review period, and the proposed action could be implemented unless the MDA determines that information presented during the 30-day public review period reveals an unassessed potential for significant impacts on the environment. Interested parties can also review the unsigned FNSI, EA, and referenced NMD Deployment EIS on the internet at: www.acq.osd.mil/bmdo/bmdolink/html/newrel.html#envir.ANC or at the following locations:

University of Alaska, Anchorage

Consortium Library

3211 Providence Drive

Anchorage, AK 99508

Alaska Resources Library & Information Services

3150 C Street, Suite 100

Anchorage, AK 99503

Delta Junction Library

2288 Deborah Street

Delta Junction, AK 99737

Anderson School Library

1st Avenue

Anderson, AK 99744

Alaska State Library 344 W. 3rd. Avenue,

Suite 125

Anchorage, AK 99501

Fairbanks North Star Borough

Public Library

Noel Wien Library

1215 Cowles Street

Fairbanks, AK 99701-4313

University of Alaska, Fairbanks

Elmer E. Rasmuson Library

PO Box 756800

Fairbanks, AK 99775-6800

Barbo Branch Library

10321 Live Oak Blvd.

Live Oak, CA 95953

Beale Air Force Base

Military Library

Marysville, CA 95903

Sutter County Library

750 Forbes Avenue

Yuba City, CA 95991

Yuba City Library

303 2nd Street

Marysville, CA 95901

Yuba College Library

Yuba College

Marysville, CA 95901

Falmouth Public Library Reference Section

123 Katherine Lee Bates Rd

Falmouth, MA 02540

Mashpee Public Library

Steeple Street,

Mashpee Common

Mashpee, MA 02649

Sandwich Public Library

142 Main Street

Sandwich, MA 02563

U.S. Coast Guard Library

Building 502

Otis ANGB, MA 02542

Cape Cod Community College Library

2240 Iyanough Rd.

West Barnstable, MA 02668-1599

Defense Technical Information Center

8725 John J. Kingman Road, Suite 0944

Ft. Belvoir, VA 22060-6218

Dated: March 12, 2002.
L.M. Bynum,
Alternate OSD Federal Register Liaison Officer, Department of Defense.

[FR Doc. 02-6429 Filed 3-13-02; 1:41 pm]

BILLING CODE 5001-08-P